DEPARTMENT OF THE TREASURY

Internal Revenue Service

26 CFR Part 1

[REG-148393-06]

RIN 1545-BG12

Medical and Accident Insurance Benefits Under Qualified Plans; Correction

AGENCY: Internal Revenue Service (IRS), Treasury.

ACTION: Correction to notice of proposed rulemaking.

SUMMARY: This document contains corrections to notice of proposed rulemaking that was published in the Federal Register on Monday, August 20, 2007 (72 FR 46421), regarding the tax treatment of payments by qualified plans for medical or accident insurance.

FOR FURTHER INFORMATION CONTACT: Pamela Kinard at (202) 622-6060.

SUPPLEMENTARY INFORMATION:

Background

The notice of proposed rulemaking (REG-148393-06) that is the subject of these corrections is under section 402(a) of the Internal Revenue Code.

Need for Correction

As published, the notice of proposed rulemaking (REG-148393-06) contains errors that may prove to be misleading and are in need of clarification.

Correction of Publication

Accordingly, the notice of proposed rulemaking (REG-148393-06) that was the subject of FR. Doc. E7-16084 is corrected as follows:

1. On page 46423, column 3, in the preamble, under the paragraph heading “Explanation of Provisions”, paragraph 2, lines 11 and 12, the language “to provide medical benefits in section 401(h) under a qualified plan or annuity” is corrected to read “to provide medical benefits in a section 401(h) account under a qualified plan or annuity”.

2. On page 46424, column 1, in the preamble, under the paragraph heading “Explanation of Provisions”, paragraph 3, line 22, the language “Public Lic 108-311” is corrected to read “Public Law 108-311”.

§ 1.402(a)-1 [Corrected]

3. On page 46425, column 2, § 1.402(a)-1, lines 1 and 2, the language “(a) * * * (1) * * * (i) * * *” is corrected to read “(a) * * * (1)(i) * * *”

4. On page 46425, column 2, § 1.402(a)-1(a)(1)(ii), lines 3 and 4, the language “qualified pension, annuity, profit sharing, or stock bonus plan to provide” is corrected to read “qualified pension, annuity, profit-sharing, or stock bonus plan to provide.”

5. On page 46425, column 2, § 1.402(a)-1(e), line 3, the language “profit sharing, or stock bonus plan—(1)” is corrected to read “profit-sharing, or stock bonus plan—(1)”.

6. On page 46426, column 1, § 1.402(a)-1(e)(6), paragraph (ii) of Example., line 3, the language “the $1,000 constitutes a distribution under” is corrected to read “$1,000 constitutes a distribution under”.

La Nita Van Dyke,
Branch Chief, Publications and Regulations Branch, Legal Processing Division, Associate Chief Counsel (Procedure and Administration).

[FR Doc. E7-18989 Filed 9-25-07; 8:45 am]

BILLING CODE 4830-01-P